DEPARTMENT OF AGRICULTURE

Forest Service

Information Collection; Request for Comment; Ride-Along Program

AGENCY: Forest Service, USDA.

ACTION: Notice.

SUMMARY: In accordance with the Paperwork Reduction Act of 1995, the Forest Service is seeking comments from all interested individuals and organizations on a renewed information collection associated with the Ride-Along Program application, a program which allows any private citizen to apply to ride along with Forest Service law enforcement officers.

DATES: Comments must be received in writing on or before July 5, 2006 to be assured of consideration. Comments received after that date will be considered to the extent practicable.

ADDRESSES: Comments concerning this notice should be addressed to the Director of Law Enforcement and Investigation, Forest Service, USDA, Mail Stop 1140, 1400 Independence Ave., SW., Washington, DC 20250-1140.

Comments also may be submitted via facsimile to (703) 605-5112 or by e-mail to: usfslei@fs.fed.us.

The public may inspect comments received at 1621 N. Kent Street, Room 1015 Rosslyn Plaza East, Arlington, VA during normal business hours. Visitors are encouraged to call ahead to (703) 605-4690 to facilitate entry to the building.

FOR FURTHER INFORMATION CONTACT: Ann Melle, Law Enforcement and Investigations Staff, at (703) 605-4527, or send an e-mail to: amelle@fs.fed.us. Individuals who use telecommunication devices for the deaf (TDD) may call the Federal Relay Service (FRS) at 1-800-877-8339 twenty-four hours a day, every day of the year, including holidays.

SUPPLEMENTARY INFORMATION: Title: Ride-Along Program.

OMB Number: 0596-0170.

Expiration Date of Approval: September 30, 2006.

Type of Request: Extension with Revision.

Abstract: This information collection is necessary to gather information to assist Forest Service Law Enforcement and Investigation (LEI) officers in determining whether to approve the applications of riders requesting to participate in the Ride-Along Program. The information collected provides additional protection for the law enforcement program and for LEI officers who allow authorized riders to accompany them in boats, cars, trucks or other vehicles by confirming the identity and criminal status of citizens wishing to participate in the program. The program provides an opportunity for citizens to learn about and observe Forest Service Law Enforcement and Investigation (LEI) tasks and activities. The program is intended to enhance Forest Service law enforcement community relationships and cooperation, improve the quality of Forest Service customer service, and provide LEI personnel a recruitment tool. A rider must complete two forms in order to participate. If the information is not collected, riders will not be able to ride along with Forest Service law enforcement officers.

Form FS-5300-33 is used by law enforcement officers to conduct a minimum background check before authorizing a person to ride along. Form FS-5300-34 is signed by riders and exempts law enforcement officers and the Forest Service from damage, loss, or injury liability incurred during the rider's participation in the program.

Estimate of Annual Burden: 10 minutes (5 minutes each for FS-5300-33 and FS-5300-34).

Type of Respondents: Citizens.

Estimated Annual Number of Respondents: 500.

Estimated Annual Number of Responses per Respondent: 1.

Estimated Total Annual Burden on Respondents: 84 hours per year.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the information collection submission for Office of Management and Budget approval.

Dated: May 1, 2006.
Dale N. Bosworth,
Chief.

[FR Doc. E6-6865 Filed 5-4-06; 8:45 am]

BILLING CODE 3410-11-P